NATIONAL AERONAUTICS AND SPACE ADMINISTRATION

[Notice 00-011]

Notice of Prospective Patent License

AGENCY: National Aeronautics and Space Administration.

ACTION: Notice of prospective patent license.

SUMMARY: NASA hereby gives notice that Strategic Planning Group, Inc. of Castle Rock Colorado, has applied for an exclusive license to practice the inventions disclosed in NASA Case No. MSC-23089-1, “Improved Circularly Polarized Microstrip Antenna,” for which a U.S. Patent Application was filed and U.S. Patent No. 5,661,494 entitled, “High Performance Circularly Polarized Microstrip Antenna,” NASA Case No. MSC-21982-1, both of which are assigned to the United States of America as represented by the Administrator of the National Aeronautics and Space Administration. Written objections to the proposed grant of a license should be sent to Johnson Space Center.

DATES: Responses to this notice must be received by March 27, 2000.

FOR FURTHER INFORMATION CONTACT: Hardie R. Barr, Patent Attorney, Johnson Space Center, Mail Code: HA, Houston, Texas 77058-3696, telephone (281) 483-1003.

Dated: January 20, 2000.
Edward A. Frankle,
General Counsel.

[FR Doc. 00-1890 Filed 1-26-00; 8:45 am]

BILLING CODE 7510-01-P